DEPARTMENT OF LABOR

Office of the Secretary

Submission for OMB Review: Comment Request

August 15, 2006.

The Department of Labor (DOL) has submitted the following public information collection request (ICR) to the Office of Management and Budget (OMB) for review and approval in accordance with the Paperwork Reduction Act of 1995 (Pub. L. 104-13, 44 U.S.C. chapter 35). A copy of this ICR, with applicable supporting documentation, may be obtained from RegInfo.gov at http://www.reginfo.gov/public/do/PRAMain or by contacting Darrin King on 202-693-4129 (this is not a toll-free number)/E-mail: king.darrin@dol.gov.

Comments should be sent to the Office of Information and Regulatory Affairs, Attn: OMB Desk Officer for the Occupational Safety and Health Administration (OSHA), Office of Management and Budget, Room 10235, Washington, DC 20503, Telephone: 202-395-7316/Fax: 202-395-6974 (these are not a toll-free numbers), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Occupational Safety and Health Administration.

Type of Review: Extension without change of currently approved collection.

Title: Benzene (29 CFR 1910.1028).

OMB Number: 1218-0129.

Frequency: On occasion; Annually; and Semi-annually.

Type of Response: Reckordkeeping and third party disclosure.

Affected Public: Business or other for-profits.

Number of Respondents: 13,498.

Number of Annual Responses: 265,610.

Estimated Time per Response: Varies by task.

Total Burden Hours: 125,209.

Total Annualized capital/startup costs: $0.

Total Annual Costs (operating/maintaining systems or purchasing services): $8,132,978.

Description: The purpose of 29 CFR 1910.1028 and its information collection requirements is to provide protection for employees from the adverse health effects associated with occupational exposure to benzene.

Agency: Occupational Safety and Health Administration.

Type of Review: Extension without change of currently approved collection.

Title: Personal Protective Equipment (PPE) for Shipyard Employment (29 CFR part 1915, subpart 1).

OMB Number: 1218-0215.

Frequency: On occasion.

Type of Response: Reckordkeeping and third party disclosure.

Affected Public: Business or other for-profits.

Number of Respondents: 639.

Number of Annual Responses: 77,749.

Estimated Time per Response: Varies by task.

Total Burden Hours: 2,041.

Total Annualized capital/startup costs: $0.

Total Annual Costs (operating/maintaining systems or purchasing services): $0.

Description: 29 CFR 1915.152 requires employers to perform a hazard assessment of the workplace to determine if personal protective equipment (PPE) is necessary. It also requires the employer to document that their employees have been trained in the use of PPE. Employers also must document that a hazard assessment has been performed.

Ira L. Mills,
Departmental Clearance Officer.

[FR Doc. E6-14115 Filed 8-24-06; 8:45 am]

BILLING CODE 4510-26-P